DEPARTMENT OF HEALTH AND HUMAN SERVICES

Indian Health Service

[Funding Announcement Number: HHS-2011-IHS-TMD-0001]

Tribal Management Grant Program; Announcement Type: New and Competing Continuation Discretionary Funding Cycle for Fiscal Year 2011

Catalog of Federal Domestic Assistance Number(s): 93.228.

Key Dates: Program Requirements Session: April 21-22 and May 5-6, 2010.

Grant Writing Session: May 17-21, 2010.

TMG WebEx Session: June 3, 2010.

Application Deadline Date: August 6, 2010.

Receipt Date for Final Tribal Resolution: October 1, 2010.

Review Date: October 4-8, 2010.

Application Notification Date: November 12, 2010.

Earliest Anticipated Start Date: January 1, 2011.

I. Funding Opportunity Description

The Indian Health Service (IHS) announces competitive grant applications for the Tribal Management Grant (TMG) Program. This program is authorized under 25 U.S.C. 450h(b) and 25 U.S.C. 450h(e) of the Indian Self-Determination and Education Assistance Act (ISDEAA), Public Law (Pub. L.) 93-638, as amended. This program is described at 93.228 in the Catalog of Federal Domestic Assistance (CFDA).

The TMG Program is a national competitive grant program established to assist Federally-recognized Tribes and Tribal organizations in assuming all or part of existing IHS programs, services, functions, and activities (PSFA) through a Title I contract and to assist established Title I contractors and Title V compactors to further develop and improve their management capability. In addition, TMGs are available to Tribes/Tribal organizations under the authority of Public Law 93-638 Section 103(e) for: (1) Obtaining technical assistance from providers designated by the Tribe/Tribal organization (including Tribes/Tribal organizations that operate mature contracts) for the purposes of program planning and evaluation, including the development of any management systems necessary for contract management and the development of cost allocation plans for indirect cost rates; and (2) planning, designing and evaluating Federal health programs serving the Tribe/Tribal organization, including Federal administrative functions.

Funding Priorities: The IHS has established the following funding priorities for TMG awards:

• Priority I—Any Indian Tribe that has received Federal recognition (restored, funded, or unfunded) within the past five years, specifically received during or after March 2005.

• Priority II—All other eligible Federally-recognized Indian Tribes or Tribally-sanctioned Tribal organizations submitting a competing continuation application or a new application for the sole purpose of addressing audit material weaknesses. The audit material weaknesses are identified in Attachment A of the transmittal letter received from the Office of the Inspector General (OIG), National External Audit Review Center (NEARC), Department of Health and Human Services (HHS). Please identify the material weaknesses to be addressed by underlining the item on Attachment A. Please refer to Section III.3, “Other Requirements,” for more information regarding Priority II participation.

Federally-recognized Indian Tribes or Tribally-sanctioned Tribal organizations not subject to Single Audit Act requirements must provide a financial statement identifying the Federal dollars received in the footnotes. The financial statement must also identify specific weaknesses/recommendations that will be addressed in the TMG proposal and are related to 25 CFR Part 900, Subpart F—“Standards for Tribes and Tribal Organizations.”

Priority II participation is only applicable to the Health Management Structure project type. For more information see Section II, “ELIGIBLE PROJECT TYPES, MAXIMUM FUNDING AND PROJECT PERIODS.”

• Priority III—All other eligible Federally-recognized Indian Tribes or Tribal organizations submitting a competing continuation application or a new application.

The funding of approved Priority I applicants will occur before the funding of approved Priority II applicants. Priority II applicants will be funded before approved Priority III applicants. Funds will be distributed until depleted.

II. Award Information

Type of Awards: Grant.

Estimated Funds Available: The estimated amount available is $2,669,000 in Fiscal Year (FY) 2011. There will be only one funding cycle in FY 2011. Awards that are issued under this announcement are subject to the availability of funds.

Anticipated Number of Awards: Approximately 20-25 awards will be issued under this grant program.

Project Periods: Varies based on project type from one to three years. Please refer to “ELIGIBLE PROJECT TYPES, MAXIMUM FUNDING AND PROJECT PERIODS” under this section for additional details.

Estimated Award Amount: $50,000/year-$100,000/year. Please refer to “ELIGIBLE PROJECT TYPES, MAXIMUM FUNDING AND PROJECT PERIODS” below for more detailed information.

Eligible Project Types, Maximum Funding and Project Periods: The TMG Program consists of four project types: (1) Feasibility study; (2) planning; (3) evaluation study; and (4) health management structure. Applicants may submit applications for one project type. Applicants must state the project type selected. Applications that address more than one project type will be considered ineligible and will be returned to the applicant. The maximum funding levels noted include both direct and indirect costs. Applicant budgets may not exceed the maximum funding level or project period identified for a project type. Applicants whose budget or project period exceeds the maximum funding level or project period will be deemed ineligible and will not be reviewed. Please refer to Section IV.6. “Funding Restrictions” for further information regarding ineligible activities.

1. Feasibility Study (Maximum funding/project period: $70,000/12 months)

The Feasibility Study must include a study of a specific IHS program or segment of a program to determine if Tribal management of the program is possible. The study shall present the planned approach, training, and resources required to assume Tribal management of the program. The study must include the following four components:

• Health needs and health care services assessments that identify existing health care services and delivery system, program divisibility issues, health status indicators, unmet needs, volume projections, and demand analysis.

• Management analysis of existing management structures, proposed management structures, implementation plans and requirements, and personnel staffing requirements and recruitment barriers.

• Financial analysis of historical trends data, financial projections and new resource requirements for program management costs and analysis of potential revenues from Federal/non-Federal sources.

• Decision statement/report that incorporates findings, conclusions and recommendations; the presentation of the study and recommendations to the governing body for Tribal determination regarding whether Tribal assumption of program(s) is desirable or warranted.

2. Planning (Maximum funding/project period: $50,000/12 months)

Planning projects entail a collection of data to establish goals and performance measures for the operation of current health programs or anticipated PSFAs under a Title I contract. Planning will specify the design of health programs and the management systems (including appropriate policies and procedures) to accomplish the health priorities of the Tribe/Tribal organization. For example, planning could include the development of a Tribal Specific Health Plan or a Strategic Health Plan, etc. Please note: The Public Health Service urges applicants submitting strategic health plans to address specific objectives of Healthy People 2010. Interested applicants may purchase a copy of Healthy People 2010 (Summary Report in print; Stock No. 017-001-00547-9) or CD-ROM (Stock No. 107-001-00549-5) through the Superintendent of Documents, Government Printing Office, P.O. Box 371954, Pittsburgh, PA 15250-7945, or (202) 512-1800. This information is available in electronic form at the following Web site: http://www.health.gov/healthypeople/publications.

3. Evaluation Study (Maximum funding/project period: $50,000/12 months)

The Evaluation Study must include a systematic collection, analysis, and interpretation of data for the purpose of determining the value of a program. The extent of the evaluation study could relate to the goals and objectives, policies and procedures, or programs regarding targeted groups. The evaluation study could also be used to determine the effectiveness and efficiency of a Tribal program operation (i.e. direct services, financial management, personnel, data collection and analysis, third-party billing, etc.) as well as determine the appropriateness of new components to a Tribal program operation that will assist Tribal efforts to improve the health care delivery systems.

4. Health Management Structure (Average funding/project period: $100,000/12 months; maximum funding/project period: $300,000/36 months)

The first year maximum is limited to $150,000 for multi-year projects. Health Management Structure allows for implementation of systems to manage or organize PSFAs. Management structures include health department organizations, health boards, and financial management systems including systems for accounting, personnel, third-party billing, medical records, management information systems, etc. This includes the design, improvements and correction of management systems that address weaknesses identified through quality control measures, internal control reviews and audit report findings under the Office of Management and Budget (OMB) Circular No. A-133—Revised June 27, 2003, “Audits of States, Local Governments, and Non-Profit Organizations.” OMB Circular A-133, Audits of States, Local Governments and Non-Profit Organizations can be found at the fol lowing Web site: http://www.whitehouse.gov/omb/circulars/a133/a133.html.

25 CFR Part 900, “Indian Self-Determination and Education Assistance Act Amendments,” Subpart F—“Standards for Tribal or Tribal Organization Management Systems” sections (900.35-900.60) is available at the following Web site locations: http://www.access.gpo.gov/nara/cfr/waisidx_04/25cfr900_04.html, or http://www.ihs.gov/NonMedicalPrograms/TMG/Forms.asp.

5. Please see Section IV “Application and Submission Information” for information on how to obtain a copy of the TMG application package.

III. Eligibility Information

1. Indian Tribes or Tribal organizations as defined by Public Law 93-638, ISDEAA, as amended. The definitions for each entity type are outlined below. Only one application per Tribe or Tribal organization is allowed. This paragraph should be cross-referenced with Section IV. (Application and Submission Information/Subsection 3, Content and Form of Narrative Submission).

Definitions

Indian Tribe means any Indian Tribe, band, nation, or other organized group or community, including any Alaska Native village, village or regional, or village corporation as defined in or established pursuant to the Alaska Native Claims Settlement Act (85 Stat. 688) [43 U.S.C. 1601 et seq.], which is recognized as eligible for the special programs and services provided by the United States to Indians because of their status as Indians. 25 U.S.C. 450b(e).

Tribal organization includes a recognized governing body of any Indian Tribe; any legally established organization of Indians which is controlled, sanctioned, or chartered by such governing body or which is democratically elected by the adult members of the Indian community to be served by such organization and which includes the maximum participation of Indians in all phases of its activities: provided, that in any case where a contract is let or grant made to an organization to perform services benefitting more than one Indian Tribe, the approval of each such Indian Tribe shall be a prerequisite to the letting or making of such contract or grant. 25 U.S.C. 450b(l).

2. Cost Sharing or Matching—The TMG Program does not require matching funds or cost sharing. However, in accordance with Public Law 93-638 section 103(c), the TMG funds may be used as matching shares for any other Federal grant programs that develop Tribal capabilities to contract for the administration and operation of health programs.

3. Other Requirements.

The following documentation is required:

A. Tribal Resolution—A resolution of the Indian Tribe served by the project must accompany the application submission. The IHS will accept the following as proper documentation:

• If an official signed (passed) Tribal resolution encompassing the scope of this grant application is not available for electronic submission with the application on Grants.gov by the deadline, a draft resolution must be submitted as a place holder and as evidence of the intent of the entity. However, the draft resolution must be followed up with the submission of a faxed, FedEx, or e-mailed pdf version of the final official signed Tribal resolution. The final signed resolution must be received by the Division of Grants Operations (DGO) by October 1, 2010. Otherwise, the application will be considered incomplete, ineligible for review, and returned to the applicant without consideration. It is recommended that applicants submitting the signed final resolution should ensure the information was received by the IHS by retaining documentation confirming delivery or receipt (i.e. fax transmittal receipt, FedEx tracking, postal return receipt, e-mail receipt, etc.).

• An Indian Tribe that is proposing a project affecting another Indian Tribe must include resolutions from all affected Tribes to be served.

• Applications by Tribal organizations will not require a specific Tribal resolution if the current Tribal resolution(s) under which they operate would encompass the proposed grant activities. A copy of that resolution must be provided for review.

• Letter of Authorization per Tribal governance requirements in lieu of a Tribal Resolution will be accepted. Evidence that the Tribe has converted to this means must be provided.

• Tribal organizations applying for technical assistance and/or training grants must submit documentation that the Tribal organization is applying upon the request of the Indian Tribe/Tribes it intends to serve.

B. Documentation for Priority I Participation requires a copy of the Federal Register notice or letter from the Bureau of Indian Affairs verifying establishment of Federal Tribal status within the last five years. Date must reflect that Federal recognition was received during or after March 2005.

C. Documentation for Priority II Participation requires a copy of the transmittal letter and Attachment A from the OIG, NEARC, HHS. See “FUNDING PRIORITIES” in Section I for more information. If an applicant is unable to locate a copy of their most recent transmittal letter or needs assistance with audit issues, information or technical assistance may be obtained by contacting the IHS Division of Audit Resolution (DAR) at (301) 443-7301, or the NEARC help line at (800) 732-0679 or (816) 426-7720. The auditor may also have the information/documentation required.

Federally-recognized Indian Tribes or Tribally-sanctioned Tribal organizations not subject to Single Audit Act requirements must provide a financial statement identifying the Federal dollars in the footnotes. The financial statement must also identify specific weaknesses/recommendations that will be addressed in the TMG proposal and that are related to 25 CFR Part 900, “Indian Self-Determination and Education Assistance Act Amendments,” Subpart F—“Standards for Tribal and Tribal Organizations.”

• Documentation of Consortium Participation—If an Indian Tribe submitting an application is a member of a consortium, the Tribe must:

— Identify the consortium.

— Indicate if the consortium intends to submit a TMG application.

— Demonstrate that the Tribe's application does not duplicate or overlap any objectives of the consortium's application.

• Identify all of the consortium member Tribes.

• Identify if any of the member Tribes intend to submit a TMG application of their own.

• Demonstrate that the consortium's application does not duplicate or overlap any objectives of the other consortium members who may be submitting their own TMG application.

Please refer to Section IV. Application and Submission Information, particularly Item 6 “Funding Restrictions” and Section V. “Application Review Information” for more information regarding other application submission information and/or requirements.

IV. Application and Submission Information

1. The Application Package May Be Found in Grants.gov

(http://www.grants.gov) or at: http://www.ihs.gov/NonMedicalPrograms/gogp/. The entire grant application package and accompanying instructions are at: http://www.grants.gov.

2. IHS Contacts

Programmatic Concerns

Ms. Patricia Spotted Horse, Program Analyst, Office of Direct Service and Contracting Tribes (ODSCT), Indian Health Service, 801 Thompson Avenue, Suite 220, Rockville, Maryland 20852, (301) 443-1104 (Telephone), (301) 443-4666 (Fax), and e-mail address: Patricia.SpottedHorse@IHS.GOV.

Business Concerns

Please contact Mr. Pallop Chareonvootitam, Grants Management Specialist, (301) 443-5204 (Telephone), (301) 443-9602 (Fax), and e-mail address: Pallop.Chareonvootitam@IHS.GOV.

The Division of Grants Operations (DGO) is the official receipt point for grant applications (electronic and paper). The address for hardcopy applications is as follows: Division of Grants Operations, Indian Health Service, 801 Thompson Avenue, TMP 360, Rockville, Maryland 20852.

GRANTS.GOV Contact for IHS

Information regarding the electronic grants.gov process, issues, and waiver requests may be obtained from the following contact person: Ms. Tammy Bagley, Senior Grants Policy Analyst, Division of Grants Policy (DGP), Indian Health Service, 801 Thompson Avenue, TMP 625, Rockville, Maryland 20852, (301) 443-5204 (Telephone) and e-mail address: Tammy.Bagley@ihs.gov.

3. Content and Form of Narrative Submission

• Abstract (one page) summarizing the project.

• Introduction and Need for Assistance.

• Project Objective(s), Approach and Results and Benefits.

• Project Evaluation.

• Organizational Capabilities and Qualifications.

• Be typewritten and single spaced.

• Use black type not smaller than 12 characters per one inch.

• Margins must not be less than one inch.

• Have consecutively numbered pages.

• Contain a narrative that does not exceed 14 typed pages that includes the other submission requirements below. The 14-page narrative does not include the abstract, the work plan, standard forms, Tribal resolution(s), table of contents, budget, budget justifications, multi-year narratives, multi-year budget, multi-year budget justification, and/or other appendix items.

Public Policy Requirements: All Federal-wide public policies apply to IHS grants with exception of Lobbying and Discrimination policy.

4. Submission Dates and Times

Applications are to be submitted electronically through Grants.gov on Friday, August 6, 2010 by 12 midnight Eastern Standard Time (EST). Any application received after the application deadline will not be accepted for processing and will be returned to the applicants without further consideration for funding.

If technical challenges arise and the applicant needs help with the electronic application process, contact Grants.gov Customer Support via e-mail at support@grants.gov or at (800) 518-4726. Customer support is available to address questions 24 hours a day, 7 days a week (except on Federal holidays). If problems persist, contact Ms. Tammy Bagley, Senior Grants Policy Analyst, (DGP) at Tammy.Bagley@ihs.gov or (301) 443-5204 at least 10 days prior to the application deadline. Please do not call Ms. Bagley until you have received a Grants.gov tracking number. All waiver requests must be made in writing (e-mails are acceptable). A written approval must be obtained from the DGP before submitting a paper application. A copy of the written approval must be submitted along with the hardcopy that is mailed to the DGO (Refer to Section IV to obtain the mailing address), Attention: Ms. Kimberly Pendleton. The DGO requires a hardcopy of the original application and two copies. Paper applications that are submitted without proof of an approved waiver will be returned to the applicant. Late applications will not be accepted for processing and will be returned to the applicant without further consideration for funding.

5. Intergovernmental Review

Executive Order 12372 requiring intergovernmental review is not applicable to this program.

6. Funding Restrictions

• Pre-award costs are not allowable.

• The available funds are inclusive of direct and indirect costs.

• Only one grant will be awarded per applicant.

• The TMG may not be used to support recurring operational programs or to replace existing public and private resources. Funding received under a recurring Public Law 93-638 contract cannot be totally supplanted or totally replaced. Exception is allowed to charge a portion or percentage of salaries of existing staff positions involved in implementing the TMG grant if applicable.

• Ineligible Project Activities

The inclusion of the following projects or activities in an application will render the application ineligible and the application will be returned to the applicant:

—Planning and negotiating activities associated with the intent of a Tribe to enter the IHS Self-Governance Project. A separate grant program is administered by the IHS for this purpose. Prospective applicants interested in this program should contact Ms. Dawn Houle, Policy Analyst, Office of Tribal Self-Governance, Indian Health Service, Reyes Building, 801 Thompson Avenue, Suite 240, Rockville, Maryland 20852, (301) 443-7821, and request information concerning the “Tribal Self-Governance Program Planning Cooperative Agreement Announcement” or the “Negotiation Cooperative Agreement Announcement.”

—Projects related to water, sanitation, and waste management.

— Projects that include direct patient care and/or equipment to provide those medical services to be used to establish or augment or continue direct patient clinical care are not allowable. Medical equipment that is allowable under the Special Diabetes Grant Program is not allowable under the TMG Program. This also includes recruitment efforts for direct patient care services.

—Projects that include long-term care or provision of any direct services. Projects that include tuition, fees, or stipends for certification or training of staff to provide direct services.

—Projects that include pre-planning, design, and planning of construction for facilities, including activities relating to program justification documents.

—Projects that propose more than one project type. Please see Section II, “Award Information,” specifically “ELIGIBLE PROJECT TYPES, MAXIMUM FUNDING AND PROJECT PERIODS” for more information. An example of a proposal with more than one project type that would be considered ineligible may include the creation of a strategic health plan (defined by TMG as a planning project type) and improving third-party billing structures (defined by TMG as a health management structure project type). Multi-year applications that include in the first year planning, evaluation or feasibility activities with the remainder of the project years addressing management structure are also deemed ineligible.

• Other Limitations—A current TMG recipient cannot be awarded a new, renewal, or competing continuation grant for any of the following reasons:

—A grantee may not administer two TMGs at the same time or have overlapping project/budget periods (however, allowance will be made to accommodate the completion of one TMG grant prior to beginning a new award, if applicable);

—The current project is not progressing in a satisfactory manner;

— The current project is not in compliance with program and financial reporting requirements; or

— Delinquent Federal Debts: No award shall be made to an applicant who has an outstanding delinquent Federal debt until either:

— The delinquent account is paid in full; or

— A negotiated repayment schedule is established and at least one payment is received.

7. Other Submission Requirements

Electronic Submission—The preferred method for receipt of applications is electronic submission through Grants.gov. Note: All IHS application packages are posted in Adobe. Therefore, please make sure that your entity uses a compatible version to save and submit the application or submission errors will occur. Should any technical challenges arise regarding the submission, please contact Grants.gov Customer Support at (800) 518-4726 or support@grants.gov. The Contact Center hours of operation are 24 hours a day, 7 days a week. The contact center is closed on Federal holidays.

Applicants that do not adhere to the timelines for Central Contractor Registry (CCR) and/or Grants.gov registration and/or request timely assistance from DGP or Grants.gov will not be a candidate to obtain a waiver from the electronic process. Applicants must plan ahead.

To submit an application electronically, please use the http://www.Grants.gov “Apply for Grants” link on the homepage. Download a copy of the application package on the Grants.gov Web site, complete it offline and then upload and submit the application via the Grants.gov site. You may not e-mail an electronic copy of a grant application to IHS.

Please be reminded of the following:

• Paper applications are not the preferred method. However, if you have technical problems submitting your application on-line, please contact directly Grants.gov Customer Support at: http://www.Grants.gov/CustomerSupport.

• Upon contacting Grants.gov, obtain a tracking number as proof of contact. The tracking number is helpful if there are technical issues that cannot be resolved and a waiver request from Grants Policy must be obtained.

• Upon entering the Grants.gov site, there is available information that outlines the requirements to the applicant regarding electronic submission of an application through Grants.gov, as well as the hours of operation.

• Applicants are strongly encouraged not to wait until the deadline date to begin the application process through Grants.gov as the registration process for CCR and Grants.gov could take up to fifteen working days.

• In order to use Grants.gov, you, as the applicant, must have a Data Universal Numbering System (DUNS) number and must register in the CCR. You should allow a minimum of ten working days to complete CCR registration. See below on how to apply.

• You must submit all documents electronically, including all information typically included on the SF-424, Application for Federal Assistance, and all necessary assurances and certifications.

• Please use the optional attachment feature in Grants.gov to attach additional documentation that may be requested by IHS.

• Final signed Tribal resolutions must be submitted no later than October 1, 2010, if a draft resolution was submitted with the initial electronic or paper application.

• The narrative section of your application cannot exceed the 14-page limitation requirements described in the program announcement.

• After you electronically submit your application, you will receive an automatic acknowledgment from Grants.gov that contains a Grants.gov tracking number. The IHS DGO will retrieve your application from Grants.gov. The DGO will not notify applicants that the application has been received.

• You must search for the downloadable application package utilizing Grants.gov FIND to search for the CFDA number 93.228.

DUNS Number

Applicants are required to obtain a DUNS number from Dun and Bradstreet to apply for a grant or cooperative agreement from the Federal Government. The DUNS number is a nine-digit identification number, which uniquely identifies business entities. Obtaining a DUNS number is easy and there is no charge. To obtain a DUNS number, access http://www.dnb.com/us/or call (866) 705-5711. Interested parties may wish to obtain their DUNS number by phone to expedite the process.

Applicants who intend to submit electronically must also be registered with the CCR. A DUNS number is required before CCR registration can be completed. Many organizations may already have a DUNS number. Please use the number listed above to investigate whether or not your organization has a DUNS number. Registration with the CCR is free of charge.

Applicants may register by calling (866) 606-8220. Please review and complete the CCR Registration Worksheet located on http://www.Grants.gov/CCRRegister.

More detailed information regarding these registration processes can be found at http://www.Grants.gov.

V. Application Review Information

The instructions for preparing the application narrative also constitute the evaluation criteria for reviewing and scoring the application. Weights assigned to each section are noted in parentheses. The 14-page narrative should include only the first year of activities; and information for multi-year projects should be included as an appendix. See “MULTI-YEAR PROJECT REQUIREMENTS” at the end of this section for more information.

1. Abstract—One Page Summary

A. Criteria

INTRODUCTION AND NEED FOR ASSISTANCE (20 Points)

(1) Describe the Tribe's/Tribal organization's current health operation. Include what programs and services are currently provided (i.e., Federally funded, State funded, etc.), information regarding technologies currently used (i.e., hardware, software, services, etc.), and identify the source(s) of technical support for those technologies (i.e., Tribal staff, Area Office, vendor, etc.). Include information regarding whether the Tribe/Tribal organization has a health department and/or health board and how long it has been operating.

(2) Describe the population to be served by the proposed project. Include a description of the number of IHS eligible beneficiaries who currently use services.

(3) Describe the geographic location of the proposed project including any geographic barriers to the health care users in the area to be served.

(4) Identify all TMGs received since FY 2005, dates of funding and summary of project accomplishments. State how previous TMG funds facilitated the progression of health development relative to the current proposed project. (Copies of reports will not be accepted.)

(5) Identify the eligible project type and priority group of the applicant.

(6) Explain the reason for your proposed project by identifying specific gaps or weaknesses in services or infrastructure that will be addressed by the proposed project. Explain how these gaps/weaknesses were discovered. If the proposed project includes information technology (i.e., hardware, software, etc.), provide further information regarding measures taken or to be taken that ensure the proposed project will not create other gaps in services or infrastructure (i.e., IHS interface capability, Government Performance and Results Act reporting requirements, contract reporting requirements, Information Technology (IT) compatibility, etc.).

(7) Describe the effect of the proposed project on current programs (i.e., Federally funded, State funded, etc.) and, if applicable, on current equipment (i.e., hardware, software, services, etc.). Include the effect of the proposed project on planned/anticipated programs and/or equipment.

(8) Address how the proposed project relates to the purpose of the TMG Program by addressing the appropriate description that follows:

• Identify if the Tribe/Tribal organization is an IHS Title I contractor. Address if the self-determination contract is a master contract of several programs or if individual contracts are used for each program. Include information regarding whether or not the Tribe participates in a consortium contract (i.e., more than one Tribe participating in a contract). Address what programs are currently provided through those contracts and how the proposed project will enhance the organization's capacity to manage the contracts currently in place.

• Identify if the Tribe/Tribal organization is an IHS Title V compactor. Address when the Tribe/Tribal organization entered into the compact and how the proposed project will further enhance the organization's management capabilities.

• Identify if the Tribe/Tribal organization is not a Title I or Title V organization. Address how the proposed project will enhance the organization's management capabilities, what programs and services the organization is currently seeking to contract and an anticipated date for contract.

PROJECT OBJECTIVE(S), WORKPLAN AND CONSULTANTS (40 Points)

A. Identify the proposed project objective(s) addressing the following:

• Measurable and (if applicable) quantifiable.

• Results oriented.

• Time-limited.

Example: By installing new software, the Tribe will increase the number of bills processed by 15 percent at the end of 12 months.

B. Address how the proposed project will result in change or improvement in program operations or processes for each proposed project objective. Also address what tangible products are expected from the project (i.e. policies and procedures manual, health plan, etc.).

C. Address the extent to which the proposed project will build the local capacity to provide, improve, or expand services that address the need(s) of the target population.

D. Submit a workplan in the appendix which includes the following information:

• Provide the action steps on a timeline for accomplishing the proposed project objective(s).

• Identify who will perform the action steps.

• Identify who will supervise the action steps taken.

• Identify who will accept and/or approve work products at the end of the proposed project.

• Include any training that will take place during the proposed project and who will be attending the training.

• Include evaluation activities planned.

E. If consultants or contractors will be used during the proposed project, please include the following information in their scope of work (or note if consultants/contractors will not be used):

• Educational requirements.

• Desired qualifications and work experience.

• Expected work products to be delivered on a timeline.

If a potential consultant/contractor has already been identified, please include a resume in the Appendix.

F. Describe what updates (i.e., revision of policies/procedures, upgrades, technical support, etc.) will be required for the continued success of the proposed project. Include when these updates are anticipated and where funds will come from to conduct the update and/or maintenance.

PROJECT EVALUATION (15 Points)

Describe the proposed plan to evaluate both outcomes and process. Outcome evaluation relates to the results identified in the objectives, and process evaluation relates to the workplan and activities of the project.

A. For outcome evaluation, describe:

• What will the criteria be for determining success of each objective?

• What data will be collected to determine whether the objective was met?

• At what intervals will data be collected?

• Who will collect the data and their qualifications?

• How will the data be analyzed?

• How will the results be used?

B. For process evaluation, describe:

• How will the project be monitored and assessed for potential problems and needed quality improvements?

• Who will be responsible for monitoring and managing project improvements based on results of ongoing process improvements and their qualifications?

• How will ongoing monitoring be used to improve the project?

• Describe any products, such as manuals or policies, that might be developed and how they might lend themselves to replication by others.

• How will the organization document what is learned throughout the project period?

C. Describe any evaluation efforts planned after the grant period has ended.

D. Describe the ultimate benefit to the Tribe that is expected to result from this project. An example of this might be the ability of the Tribe to expand preventive health services because of increased billing and third party payments.

ORGANIZATIONAL CAPABILITIES AND QUALIFICATIONS (15 Points)

A. Describe the organizational structure of the Tribe/Tribal organization beyond health care activities.

B. Provide information regarding plans to obtain management systems if the Tribe/Tribal organization does not have an established management system currently in place that complies with 25 CFR Part 900, Subpart F, “Standards for Tribal Management Systems.” If management systems are already in place, simply state it and how long the systems have been in place.

C. Describe the ability of the organization to manage the proposed project. Include information regarding similarly sized projects in scope and financial assistance as well as other grants and projects successfully completed.

D. Describe what equipment (i.e., fax machine, phone, computer, etc.) and facility space (i.e., office space) will be available for use during the proposed project. Include information about any equipment not currently available that will be purchased through the grant.

E. List key personnel who will work on the project. Include all titles of key personnel in the workplan. In the appendix, include position descriptions and resumes for all key personnel. Position descriptions should clearly describe each position and duties, indicating desired qualifications and experience requirements related to the proposed project. Resumes must indicate that the proposed staff member is qualified to carry out the proposed project activities. If a position is to be filled, indicate that information on the proposed position description.

F. If the project requires additional personnel (i.e., IT support, etc.), address how the Tribe/Tribal organization will sustain the position(s) after the grant expires. (If there is no need for additional personnel, simply state it.)

CATEGORICAL BUDGET AND BUDGET JUSTIFICATION (10 Points)

A. Provide a categorical budget for each of the 12-month budget periods requested.

B. If indirect costs are claimed, indicate and apply the current negotiated rate to the budget. Include a copy of the rate agreement in the appendix.

C. Provide a narrative justification explaining why each categorical budget line item is necessary/relevant to the proposed project. Include sufficient cost and other details to facilitate the determination of cost allowability (i.e., equipment specifications, etc.).

Multi-Year Project Requirements

For projects requiring a second and/or third year, include only Year 2 and/or Year 3 narrative sections (objectives, evaluation components and work plan) that differ from those in Year 1. For every project year include a full budget justification and detailed, itemized categorical budget showing calculation methodologies for each item. The same weights and criteria which are used to evaluate a one-year project or the first year of a multi-year project will be applied when evaluating the second and third years of a multi-year application. Refer to Section V. Application Review Information. A weak second and/or third year submission could negatively impact the overall score of an application and result in elimination of the proposed second and/or third years with a recommendation for only a one-year award.

Appendix Items

A. Work plan for proposed objectives.

B. Position descriptions for key staff.

C. Resumes of key staff that reflect current duties.

D. Consultant proposed scope of work (if applicable).

E. Indirect Cost Rate Agreement.

F. Organizational chart (optional).

G. Multi-Year Project Requirements (if applicable).

2. Review and Selection Process

In addition to the above criteria/requirements, applications are considered according to the following:

A. Application Submission (Application Deadline: August 6, 2010)

Applications received in advance of or by the deadline and verified by the tracking number will be prescreened by DGO staff for eligibility and completeness to confirm that:

• The applicant and proposed project type is eligible in accordance with this grant announcement;

• The application is not a duplication of a previously funded project; and

• The application narrative, forms, and materials submitted meet the requirements of the announcement allowing the review panel to undertake an in-depth evaluation; otherwise the application will be deemed incomplete and ineligible and will be returned. Ineligible applications are not reviewed but will receive a letter of ineligibility and explanation from the DGO.

B. Competitive Review of Eligible Applications (Objective Review: October 4-8, 2010)

Applications meeting eligibility requirements that are complete, responsive and conform to this program announcement will be reviewed for merit using an Ad Hoc Objective Review Committee (ORC) appointed by the ODSCT to review and make recommendations on these applications. The review will be conducted in accordance with the HHS Objective Review Guidelines. The technical review process ensures selection of quality projects in a national competition for limited funding. Applications will be evaluated and scored on the basis of the evaluation criteria listed in Section V.1. The criteria are used to evaluate the quality of a proposed project, determine the likelihood of success and to assign a numerical score to each application. The scoring of approved applications will assist the IHS in ranking the proposals and determining which proposals will be funded and reviewed by the DGO for cost analysis and further recommendation. All applications that are reviewed and that receive a score of 60 points or above will be ranked and recommended for funding. All awards that are issued under this announcement are subject to the availability of funds. The program official accepts the DGO recommendations for consideration when funding applications. The program official will forward the final approved ranking list to the Director, ODSCT, for final review and approval. Applications that score below 60 points will be disapproved. Applications that are approved but not funded due to budgetary constraints will not be carried over into the next cycle for funding consideration.

3. Anticipated Announcement and Award Dates

The earliest award start date will be January 1, 2011.

VI. Award Administration Information

1. Award Notices

ORC Results Notification: November 12, 2010.

Applicants whose applications are declared ineligible will receive written notification from the DGO of the ineligibility determination. The ineligible notification will include information regarding the rationale for the ineligible decision citing specific information from the original grant application. Those applicants who are approved and recommended for funding, approved but unfunded and those who are disapproved will receive a copy of the Executive Summary which identifies the weaknesses and strengths of the application submitted. Applicants who are approved and recommended for funding will be notified through the official Notice of Award (NoA) document issued by the DGO. The NoA will be signed by the Grants Management Officer and is the authorizing document for notifying grant recipients of funding. The NoA will state the amount of Federal funds awarded, the purpose of the grant, the terms and conditions that govern the grant award, the effective date of the award, the project period, and the budget period. Pre-award costs are not allowable charges under this program grant.

2. Administrative Requirements

Grants are administrated in accordance with the following regulations, policies, and Office of Management and Budget (OMB) cost principles:

A. The Criteria as Outlined in This Funding Opportunity Announcement

B. Administrative/Program Regulations for Grants

• 45 CFR Part 92—Uniform Administrative Requirements for Grants and Cooperative Agreements to State, Local and Tribal Governments.

• 45 CFR Part 74—Uniform Administrative Requirements for Awards and Sub-awards to Institutions of Higher Education, Hospitals, Other Non-Profit Organizations, and Commercial Organizations.

• 42 CFR Part 136—Indian Health.

C. Grants Policy

• HHS Grants Policy Statement, Revised 01/2007.

D. Cost Principles

• OMB Circular A-87—State, Local, and Indian Tribal Governments (Title 2 Part 225).

• OMB Circular A-122—Non-Profit Organizations (Title 2 Part 230).

E. Audit Requirements

• OMB Circular A-133—Audits of States, Local Governments, and Non-Profit Organizations.

3. Indirect Costs

This section applies to all grant recipients that request indirect costs in their application. In accordance with HHS Grants Policy Statement, Part II-27, IHS requires applicants to have a current indirect cost rate agreement in place prior to award. The rate agreement must be prepared in accordance with the applicable cost principles and guidance as provided by the cognizant agency or office. A current rate means the rate covering the applicable activities and the award budget period. If the current rate is not on file with the awarding office, the award shall include funds for reimbursement of indirect costs. However, the indirect cost portion will remain restricted until the current rate is provided to the DGO.

Generally, indirect costs rates for IHS are negotiated with two cognizant agencies; the Division of Cost Allocation (DCA)/HHS http://rates.psc.gov/ and National Business Center (NBC)/Department of the Interior http://www.aqd.nbc.gov/Services/ICS.aspx. If your organization has questions regarding the indirect cost policy, please contact the DGO at (301) 443-5204.

4. Reporting

A. Progress Report. Program progress reports will be required semi-annually. Semi-annual program progress reports must be submitted within 30 days of the conclusion of the first six months of the budget period and again at the end of the budget period. These reports will include a brief comparison of actual accomplishments to the goals established for the period, reasons for slippage (if applicable), and other pertinent information as required. A final report must be submitted within 90 days of expiration of the budget/project period.

B. Financial Status Reports. Financial status reports will be required semi-annually. Semi-annual financial status reports must be submitted within 30 days after the reporting period ends. Final financial status reports are due within 90 days of expiration of the budget/project period. Standard Form 269 (long form) will be used for financial reporting.

C. Reports. Grantees are responsible and accountable for accurate and timely reporting of the Progress Reports and Financial Status Reports which are generally due semi-annually. Financial Status Reports (SF-269) are due 90 days after each budget period and the final SF-269 must reflect an accumulative total of all expenditures and authorizations for the life of the project. Grantees must refer to the terms and conditions of their award to obtain details regarding their reporting requirements. Grantees are required to contact their Grants Management Specialist with any questions regarding reporting requirements.

Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This applies whether the delinquency is attributable to the failure of the grantee organization or the individual responsible for preparation of the reports.

VII. Agency Contact(s)

Interested parties may obtain TMG programmatic information from the TMG Program Coordinator listed under Section IV of this program announcement. Grant-related and business management information may be obtained from the Grants Management Specialist listed under Section IV of this program announcement. Grants.gov submission concerns and waiver requests may be addressed by Ms. Tammy Bagley, DGP. Contact information is noted under Section IV of this program announcement. Please note that the telephone numbers provided are not toll-free.

VIII. Other Information

Training

The TMG Program official will conduct pre-award training sessions to provide limited technical assistance to applicants in preparing their FY 2011 TMG applications. There will be two 2-day training sessions. In addition, there will be one 5-day training session on Grantsmanship. The 5-day training session will provide participants with basic grant writing skills, information regarding where to search for funding opportunities, and the opportunity to begin writing a TMG grant proposal. The 2-day training sessions will focus specifically on the TMG requirements providing participants with information contained in this announcement, clarifying any issues/questions applicants may have and critiquing project ideas. Also, a half-day WebEx focusing on TMG program requirements will be conducted on June 3, 2010.

Priority will be given to groups eligible to apply for the TMG Program. Participation is limited to two personnel from each Tribe or Tribal organization. All sessions are first come-first serve with the above limitations noted. All participants are responsible for making and paying for their own travel arrangements. Interested parties should register with the TMG staff prior to making travel arrangements to ensure space is available in the selected session. There is no registration fee to attend the training session(s). The registration form may be obtained from the TMG Web site at: http://www.ihs.gov/NonMedicalPrograms/tmg/Training.asp. The registration form may be faxed to (301) 443-4666. Note: A minimum of ten attendees is required for the IHS to conduct the training sessions. The anticipated training dates and locations are listed below in chronological order:

• April 21-22, 2010—Rockville, MD (Limit 30) (TMG Training).

• May 5-6, 2010—Minneapolis, MN (Limit 25) (TMG Training).

• May 17-21, 2010—Albuquerque, New Mexico (Limit 25) (The Grantsmanship Center Training).

• June 3, 2010—Two-Hour WebEx (Limit 50) (TMG Training).

IHS Checklist

The following IHS Checklist is included to assist applicants in proposal preparation and follow-up. Applicants are highly encouraged to employ this checklist for their benefit and to submit it as part of their proposal as an attachment in Grants.gov to allow for verification of receipt. This checklist will be utilized by the DGO during their initial screening for eligibility and will be utilized by the ODSCT during their programmatic review for content of the application to ensure required items requested are submitted and the application is eligible for further review via the ORC. This checklist is available on the TMG Web site at http://www.ihs.gov/NonMedicalPrograms/tmg/.

IHS FY 2011 Tribal Management Grant Application Checklist
Applicant Name:XXXXXXXXXXXXXXXXXXXXXXXXXXXXXXXXXXXXXXXX
Application Tracking Number:XXXXXXXXXXXXXXXXXXXXXXXXXXXXXXXXXX
Electronic Submission:XXXXXXSigned Paper Submission:XXXXXXWaiver Obtained:XXXXX
Title I:XXXXXTitle V:XXXXXProject Type:XXXXXXXXXXXXXXXXXXXXXXXXX
Item | Applicant | Grants | Programs
1. IHS FY 2011 TMG Checklist | XXXXX | XXXXX | XXXXX
2. Eligibility: (circle) Tribe Tribal Organization | XXXXX | XXXXX | XXXXX
3. 501c(3) Non-Profit Organization | XXXXX | XXXXX | XXXXX
4. Tribal Resolution or Letter of Authorization (as defined in the announcement)
a. Final signed Tribal Resolution is due on or before October 1, 2010 | XXXXX | XXXXX | XXXXX
b. Draft unsigned resolution is due August 6, 2010 (if applicable) | XXXXX | XXXXX | XXXXX
5. Priority I Documentation (if applicable) | XXXXX | XXXXX | XXXXX
6. Priority II Documentation (if applicable) | XXXXX | XXXXX | XXXXX
7. Consortium Participation Documentation (if applicable) | XXXXX | XXXXX | XXXXX
8. SF 424 Application for Federal Assistance | XXXXX | XXXXX | XXXXX
9. SF 424A Budget - Non Construction | XXXXX | XXXXX | XXXXX
10. SF 424B Assurances | XXXXX | XXXXX | XXXXX
11. Disclosure of Lobbying Activities | XXXXX | XXXXX | XXXXX
12. Abstract | XXXXX | XXXXX | XXXXX
13. Project Narrative Items a. - e. (14 pages maximum)
a. Introduction and Need for Assistance. | XXXXX | XXXXX | XXXXX
b. Project Objective(s), Workplan & Consultants. | XXXXX | XXXXX | XXXXX
c. Project Evaluation. | XXXXX | XXXXX | XXXXX
d. Organizational Capabilities and Qualifications. | XXXXX | XXXXX | XXXXX
e. Categorical Budget & Budget Justification. | XXXXX | XXXXX | XXXXX
14. Multi-year Summary & Budget Justification
15. APPENDICES
a. Work plan for proposed objectives. | XXXXX | XXXXX | XXXXX
b. Position descriptions for key staff. | XXXXX | XXXXX | XXXXX
c. Resumes of key staff that reflect current duties. | XXXXX | XXXXX | XXXXX
d. Consultant proposed scope of work (if applicable). | XXXXX | XXXXX | XXXXX
e. Indirect Cost Rate Agreement. | XXXXX | XXXXX | XXXXX
f. Organizational chart (optional). | XXXXX | XXXXX | XXXXX
g. Multi-Year Project Requirements (if applicable). | XXXXX | XXXXX | XXXXX
Applicant Signature/Date:XXXXXXXXXXXXXXXXXXXXXXXXXXXXXXXXXXXXXXXX
Grants Management Signature/Date:XXXXXXXXXXXXXXXXXXXXXXXXXXXXXXXXXXX
Program Office Signature/Date: XXXXXXXXXXXXXXXXXXXXXXXXXXXXXXXXXXXXX

The Public Health Service (PHS) strongly encourages all grant and contract recipients to provide a smoke-free workplace and promote the non-use of all tobacco products. In addition, Public Law 103-227, the Pro-Children Act of 1994, prohibits smoking in certain facilities (or in some cases, any portion of the facility) in which regular or routine education, library, day care, health care or early childhood development services are provided to children. This is consistent with the HHS mission to protect and advance the physical and mental health of the American people.

Dated: March 30, 2010.
Yvette Roubideaux,
Director, Indian Health Service.

[FR Doc. 2010-7790 Filed 4-6-10; 8:45 am]

BILLING CODE 4165-16-P